DEPARTMENT OF STATE

[Public Notice 8639]

Shipping Coordinating Committee; Notice of Committee Meeting

The Shipping Coordinating Committee (SHC) will conduct an open meeting at 9:30 a.m. on Wednesday, March 12th, 2014, in Conference Rooms 8-9-10 of the United States Department of Transportation (DOT) Headquarters Building, 1200 New Jersey Avenue SE., Washington, DC 20590. The primary purpose of the meeting is to prepare for the sixty sixth Session of the International Maritime Organization's (IMO) Marine Environment Protection Committee to be held at the IMO Headquarters, United Kingdom, March 31—April 4, 2014.

The agenda items to be considered include:

—Adoption of the agenda

—Harmful aquatic organisms in ballast water

—Recycling of ships

—Air pollution and energy efficiency; Further technical and operational measures for enhancing energy efficiency of international shipping

—Reduction of greenhouse gases (GHG) emissions from ships

—Consideration and adoption of amendments to mandatory instruments

—Interpretations of, and amendments to, MARPOL and related instruments

—Implementation of the OPRC Convention and the OPRC-HNS Protocol and relevant Conference resolutions

—Identification and protection of Special Areas and Particularly Sensitive Sea Areas

—Inadequacy of reception facilities

—Reports of sub-committees

—Work of other bodies

—Harmful anti-fouling systems for ships

—Promotion of implementation and enforcement of MARPOL and related instruments

—Technical co-operation activities for the protection of the marine environment

—Role of the human element

—Noise from commercial shipping and its adverse impacts on marine life

—Work program of the Committee and subsidiary bodies

—Application of the Committee's Guidelines

—Any other business

—Consideration of the report of the Committee

Members of the public may attend this meeting up to the seating capacity of the room. To facilitate the building security process, and to request reasonable accommodation, those who plan to attend should contact the meeting coordinator, Mr. John Morris, by email at john.c.morris@uscg.mil, by phone at (202) 372-1433, by fax at (202) 372-8383, or in writing at Commandant (CG-5PS), U.S. Coast Guard Headquarters, 2703 Martin Luther King Jr. Ave SE., Washington, DC 20593-7509 not later than March 3, 2014, or 7 days prior to the meeting. Requests made after March 3, 2014 might not be able to be accommodated. Please note that due to security considerations, two valid, government issued photo identifications must be presented to gain entrance to the DOT Headquarters building. The DOT Headquarters building is accessible by public transportation (Navy Yard subway station), taxi and privately owned conveyance. Additional information regarding this and other IMO SHC public meetings may be found at: www.uscg.mil/imo.

In case of severe weather or other emergency in the Washington, DC area, attendees should check with the Office of Personnel Management at http://www.opm.gov or (202) 606-1900 for the operating status of federal agencies. If federal agencies are closed, this meeting will not be rescheduled, but the Shipping Coordinating Committee will publish a separate Federal Register notice to announce an electronic docket to receive public comments.

Dated: February 7, 2014.
Marc Zlomek,
Executive Secretary, Shipping Coordinating Committee, Department of State.

[FR Doc. 2014-03508 Filed 2-18-14; 8:45 am]

BILLING CODE 4710-09-P